DEPARTMENT OF THE INTERIOR

Bureau of Land Management

[CA-930-1220-EB]

Campground Fees for BLM-Administered Campgrounds in California

AGENCY: Bureau of Land Management, Interior.

ACTION: Supplementary rules.

SUMMARY: The Bureau of Land Management (BLM) is establishing recreation use fees for campgrounds that did not have existing supplementary rules related to recreation use fees. BLM is also reaffirming existing supplementary rules for BLM-administered campgrounds throughout California. We are taking this action to authorize the collection of fees from those who use the campgrounds. This action has the effect of requiring campground users to pay fees for the use of certain designated campgrounds.

EFFECTIVE DATE: These supplementary rules are effective on June 5, 2000.

FOR FURTHER INFORMATION CONTACT: Tim Smith, BLM California State Office (CA-930), 2800 Cottage Way, Suite W-1834, Sacramento, California 95825-1886; 916/978-4644.

SUPPLEMENTARY INFORMATION: The authority for these Supplementary Rules is contained in the Code of Federal Regulations, Title 43, § 8365.1-6, Supplementary Rules. Violation of any supplementary rule by a member of the public, except for the provisions of § 8365.1-7, are punishable by a fine not to exceed $1,000 and/or imprisonment not to exceed 12 months. Federal Regulations, Title 43, § 8360.0-7 violations of supplementary rules authorized by § 8365.1-7 are punishable in the same manner.

Existing BLM Campgrounds in California

This supplementary rule authorizes the establishment and re-affirmation of recreation fees at all existing fee campgrounds on BLM administered lands in California. The following campgrounds are subject to recreation fees:

Arcata Field Office: Wailaki, Nadelos, Tolkan, Horse Mountain, Honey Dew, and Mattole

Redding Field Office: Junction City, Douglas City, Steel Bridge, and Reading Island

Eagle Lake Field Office: North Eagle Lake

Folsom Field Office: South Yuba, McCabe Flat, Railroad Flat, and Willow Placer

Ridgecrest Field Office: Fossil Falls

Barstow Field Office: Owl Canyon and Afton Canyon

Palm Springs/South Coast Field Office: Corn Springs

El Centro Field Office: Lark Canyon and Cottonwood

Dated: May 24, 2000.
Al Wright,
Acting State Director, California.

[FR Doc. 00-13659 Filed 6-2-00; 8:45 am]

BILLING CODE 4310-40-P